DEPARTMENT OF VETERANS AFFAIRS

Advisory Committee on Cemeteries and Memorials; Notice of Meeting

The Department of Veterans Affairs (VA) gives notice under Public Law 92-463 (Federal Advisory Committee Act) that a meeting of the Advisory Committee on Cemeteries and Memorials will be held November 18-19, 2008, at the Gaylord National Resort and Convention Center, National Harbor, Maryland. On November 18, the meeting will begin at 8 a.m. and end at 3:45 p.m. On November 19, the meeting will begin at 8:30 a.m. and end at 4 p.m. The meeting is open to the public.

The purpose of the Committee is to advise the Secretary of Veterans Affairs on the administration of national cemeteries, soldiers' lots and plots, the selection of new national cemetery sites, the erection of appropriate memorials, and the adequacy of Federal burial benefits.

On November 18, the Committee will receive updates on National Cemetery Administration issues. On November 19, the Committee will tour the historic Congressional Cemetery, located at 1801 E. Street in Southeast, Washington, DC, and reconvene at the hotel for a business session (beginning at 1 p.m.), which will include discussions of Committee recommendations, future meeting sites, and potential agenda topics for future meetings.

Time will not be allocated for receiving oral presentations from the public. Any member of the public wishing to attend the meeting should contact Mr. Michael Nacincik, Designated Federal Officer, at (202) 461-6240. The Committee will accept written comments. Comments may be transmitted electronically to the Committee at Michael.n@va.gov or mailed to the National Cemetery Administration (41C2), 810 Vermont Avenue, NW., Washington, DC 20420. In the public's communications with the Committee, the writers must identify themselves and state the organizations, associations, or persons they represent.

Dated: September 12, 2008.
By Direction of the Secretary.
E. Philip Riggin,
Committee Management Officer.

[FR Doc. E8-21805 Filed 9-17-08; 8:45 am]

BILLING CODE 8320-01-P